CHEMICAL SAFETY AND HAZARD INVESTIGATION BOARD

Sunshine Act Meeting

TIME AND DATE: June 8, 2017, 1:00 p.m. EDT

PLACE: U.S. Chemical Safety Board, 1750 Pennsylvania Ave. NW., Suite 910, Washington, DC 20006.

STATUS: Open to the public.

MATTERS TO BE CONSIDERED: The Chemical Safety and Hazard Investigation Board (CSB) will convene a public meeting on June 8, 2017, starting at 1:00 p.m. EDT in Washington, DC, at the CSB offices located at 1750 Pennsylvania Avenue NW., Suite 910. The Board will vote to change the status of three recommendations that were calendared for public consideration. The recommendations are related to the 2012 Chevron Richmond Refinery investigation (2012-03-I-CA-R28) and the 2013 Williams Olefins investigation (2013-03-I-LA-R1 and R3). The Board will also provide an overview of its participation in Safe and Sound Week. An opportunity for public comment will be provided.

Additional Information

The meeting is free and open to the public. If you require a translator or interpreter, please notify the individual listed below as the “Contact Person for Further Information,” at least three business days prior to the meeting.

A conference call line will be provided for those who cannot attend in person. Please use the following dial-in number to join the conference: (888) 862-6557 Confirmation Number 44851150#.

The CSB is an independent, non-regulatory federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

The time provided for public statements will depend upon the number of people who wish to speak. Speakers should assume that their presentations will be limited to three minutes or less, but commenters may submit written statements for the record.

Contact Person for Further Information

Hillary Cohen, Communication Manager, at public@csb.gov or (202) 446-8094. Further information about this public meeting can be found on the CSB Web site at: www.csb.gov.

Dated: May 10, 2017.
Kara A. Wenzel,
Acting General Counsel, Chemical Safety and Hazard Investigation Board.

[FR Doc. 2017-09836 Filed 5-11-17; 11:15 am]

BILLING CODE 6350-01-P